DEPARTMENT OF HEALTH AND HUMAN SERVICES

Health Resources and Services Administration

Request for Information: Early Hearing Detection and Intervention Program

AGENCY: Health Resources and Services Administration (HRSA), Department of Health and Human Services.

ACTION: Notice of request for public comment.

SUMMARY: HRSA's Early Hearing Detection and Intervention (EHDI) Program is requesting input from the public to inform future EHDI program development.

DATES: Submit comments no later than July 18, 2022.

ADDRESSES: Submit electronic comments to ehdi@hrsa.gov. Please submit your response only one time by July 18, 2022.

FOR FURTHER INFORMATION CONTACT: Sandra Battiste, MPH at ehdi@hrsa.gov or (301) 443-0223.

SUPPLEMENTARY INFORMATION: HRSA's EHDI Program, authorized under 42 U.S.C. of the Public Health Service Act, seeks to enable states, jurisdictions, families, and clinical, educational, and social service providers to develop coordinated systems of care so that newborns, infants, and young children who are deaf or hard of hearing are identified as early as possible and receive the services they need. Early involvement can help these children meet age-appropriate language, literacy, social-emotional, and other developmental milestones. HRSA currently funds 59 states and jurisdictions ¹ through the EHDI grants program in order to (1) increase health professionals' engagement with and knowledge of the EHDI system,² (2) improve access to early intervention services and language acquisition, and (3) improve family engagement, partnership, and leadership in EHDI systems. The HRSA-funded National Technical Resource Center supports states and territories by providing technical assistance and resources in order to meet EHDI program goals and objectives.

¹ For the purpose of this request for information, the term “jurisdiction” includes the District of Columbia, the Republic of the Marshall Islands, the Federated States of Micronesia, the Republic of Palau, the Commonwealth of Puerto Rico, the Virgin Islands, Guam, American Samoa, and the Commonwealth of the Northern Mariana Islands.

² For the purpose of this request for information, the EHDI system is defined as “families, consumers, providers, services, and programs that work towards developing coordinated and comprehensive state and territory systems so that families with newborns, infants, and young children who are deaf or hard of hearing receive appropriate and timely services that include hearing screening, diagnosis, and intervention.” Early Hearing Detection and Intervention Program Notice of Funding Opportunity HRSA-20-047”?

HRSA investments also support family engagement and workforce development related to EHDI. For example, the Family Leadership in Language and Learning program aims to strengthen family leadership and inclusion of families, parents and caregivers of children who are deaf or hard of hearing within the EHDI system. In addition, HRSA funds the Leadership Education in Neurodevelopmental and Related Disabilities program, authorized under the Public Health Service Act, to support workforce development through audiology training grants. More information about the HRSA EHDI program is available online at: https://mchb.hrsa.gov/maternal-child-health-initiatives/early-hearing-detection-and-intervention.html.

Responses

HRSA is seeking responses that address the following questions. A response to each question is not required.

1. What strategies or programs are needed to support EHDI programs to ensure that all newborns are screened by 1 month of age, a diagnosis is made by 3 months of age, and children who are deaf or hard of hearing are enrolled in and start to receive intervention services by 6 months of age?

2. What strategies should be considered to support the timely identification and receipt of services for young children up to age 3?

3. What strategies should be considered to ensure that infants and young children receive screening and diagnosis services that are high quality and evidence-based?

4. What strategies should be considered to ensure that providers collect and report high quality data on hearing screening, diagnosis, and follow-up to EHDI programs for public health surveillance?

5. What strategies or programs would ensure that families of children who are deaf or hard of hearing receive information that is accurate, comprehensive, up-to-date, and evidence-based, as appropriate, to allow families to make important decisions for their children in a timely manner, including decisions with respect to the full range of assistive hearing technologies and communications modalities, as appropriate?

6. What strategies would help ensure families, parents, and caregivers are continuously engaged as active partners in the EHDI system?

7. What approaches that foster family-to-family and deaf and hard of hearing consumer-to-family supports by families and adults who are deaf or hard of hearing should be considered?

8. What new evidence-based or promising approaches that help deaf or hard of hearing children meet language, literacy, social, emotional, and other developmental milestones should be considered within EHDI Programs/the EHDI system?

9. How has COVID-19 impacted the EHDI system of care, including the ability of EHDI programs to share or report information in a timely manner? Are there any notable promising practices or approaches used in response that should be further explored?

10. What ongoing and emerging gaps in access to services are present within the EHDI system? Are there populations that are experiencing inequities in access to timely identification and receipt of services? What approaches should be used to address these gaps?

Respondents can also provide additional comments or recommendations that are not specifically linked to the questions above. All responses may but are not required to identify the individual's name, address, email, telephone number, professional or organizational affiliation, background or area of expertise (e.g., program participant, family member, clinician, public health worker, researcher, EHDI Coordinator, etc.), and topic/subject matter. Information obtained as a result of this request for information (RFI) may be used by HRSA on a non-attribution basis for program planning. Comments in response to this RFI will be made publicly available, so respondents should bear this in mind when making comments. HRSA will not respond to any individual comments.

Special Note to Commenters

Whenever possible, respondents are asked to draw their responses from objective, empirical, and actionable evidence and to cite this evidence within their responses.

The information obtained through this RFI may help inform the next iteration of the HRSA EHDI program portfolio of investments. This RFI is issued solely for information and planning purposes; it does not constitute a Request for Proposal, applications, proposal abstracts, or quotations. This RFI does not commit the U.S. Government to contract for any supplies or services or make a grant or cooperative agreement award. Further, HRSA is not seeking proposals through this RFI and will not accept unsolicited proposals. HRSA will not respond to questions about the policy issues raised in this RFI. Responders are advised that the U.S. Government will not pay for any information or administrative costs incurred in response to this RFI; all costs associated with responding to this RFI will be solely at the interested party's expense. Not responding to this RFI does not preclude participation in any future procurement or program, if conducted.

Diana Espinosa,
Deputy Administrator.

[FR Doc. 2022-13037 Filed 6-16-22; 8:45 am]

BILLING CODE 4165-15-P